DEPARTMENT OF ENERGY

Federal Energy Regulatory Commission

New England Power Pool and ISO New England, Inc.: Docket Nos. ER02-2330-001, EL00-62-052, ER02-2330-002, EL00-62-053, ER02-2330-003 and EL00-62-054; ISO New England, Inc.: Docket Nos. ER02-2330-004 and ER02-2330-005; New England Power Pool: Docket Nos. ER03-210-000 and ER03-210-001; Notice of Staff's Participation in ISO New England Transmission Pricing Workshop

January 15, 2003.

ISO New England, Inc. has invited Commission staff to participate in a transmission pricing workshop that will be held on January 17, 2003 from 10 a.m. to 3 p.m. The meeting will be held at the Sheraton Springfield Monarch Place Hotel, Springfield, Massachusetts. Members of the public may attend. Further information about the meeting and a copy of the registration form is available at www.iso-ne.com/seminars/schedule.html. Representatives of the Commission's staff may participate in the meeting.

During the course of the meeting, it is possible that discussions may overlap with issues in the above-captioned dockets. A summary of any such discussion will be placed in each of the listed dockets, if appropriate.

For more information, contact John McPherson, Office of Markets, Tariffs and Rates, Federal Energy Regulatory Commission at 202-520-8232 or john.mcpherson@ferc.gov.

Magalie R. Salas,
Secretary.

[FR Doc. 03-1820 Filed 1-24-03; 8:45 am]

BILLING CODE 6717-01-P